DEPARTMENT OF THE INTERIOR

National Indian Gaming Commission

Request for New Information Collection Under the Paperwork Reduction Act: Stakeholders Surveys

AGENCY: National Indian Gaming Commission, Department of the Interior.

ACTION: 60-Day notice of request for comments.

SUMMARY: The National Indian Gaming Commission (NIGC or Commission) offers the general public and other federal agencies the opportunity to comment on a new proposed generic information collection, i.e., voluntary stakeholders surveys to be conducted by the NIGC. As required by the Paperwork Reduction Act of 1995 as amended by the Clinger-Cohen Act, the NIGC is soliciting comments for this proposed collection.

DATES: Submit comments on or before October 15, 2018.

ADDRESSES: Comments can be mailed, faxed, or emailed to the attention of: Tim Osumi, National Indian Gaming Commission, 1849 C Street NW, Mail Stop #1621, Washington, DC 20240. Comments may be faxed to (202) 632-7066 and may be sent electronically to info@nigc.gov, subject: PRA renewals.

FOR FURTHER INFORMATION CONTACT: Tim Osumi at (202) 632-7054; fax (202) 632-7066 (not toll-free numbers).

SUPPLEMENTARY INFORMATION: The Indian Gaming Regulatory Act (IGRA or the Act), 25 U.S.C. 2701, et seq., laid out a comprehensive framework for the regulation of gaming on Indian lands. Amongst other actions necessary to carry out the Commission's statutory duties, the Act directs the Commission to provide trainings and technical assistance to tribal gaming operations regulated by IGRA. 25 U.S.C. 2706(d)(2).

The Commission is requesting a new clearance to conduct voluntary stakeholder surveys in order to: (i) Determine the stakeholders' satisfaction with the level(s) of service, trainings, and/or technical assistance provided by the Commission; (ii) identify any perceived weaknesses in those services, trainings, and/or technical assistance; (iii) seek any other information on the service, training, and/or technical assistance received; (iv) seek suggestions on improving the product or its format; and (v) seek suggestions for other services, trainings, and/or technical assistance. This new collection will be voluntary and the information gleaned from these surveys will be used to help direct service, training, and/or technical assistance improvement efforts, and to assist the Commission in better identifying the needs of its stakeholders. The Commission will take precautions to ensure that the respondents are aware that they are not under any risk for not responding or for the content of their responses.

The NIGC is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Please note that an agency may not conduct or sponsor, and an individual need not respond to, a collection of information unless it has a valid OMB control number. It is the Commission's policy to make all comments available to the public for review at its headquarters, located at 90 K Street NE, Suite 200, Washington, DC 20002. Before including your address, phone number, email address, or other personal identifying information in your comment, you should be aware that your entire comment—including your personal identifying information—may be made publicly available at any time. While you may ask in your comment that the Commission withhold your personal identifying information from public review, the Commission cannot guarantee that it will be able to do so.

Analysis

Title: Voluntary Stakeholders Surveys.

Affected Public: Tribal governing bodies.

Frequency: Twice annually.

Number of Respondents: 257.

Annual Responses: 514.

Estimated Time per Respondent: 15 minutes.

Burden Hours: 129.

Dated: August 3, 2018.
Christinia Thomas,
Chief of Staff (A).

[FR Doc. 2018-17129 Filed 8-14-18; 8:45 am]

BILLING CODE 7565-01-P